NATIONAL AERONAUTICS AND SPACE ADMINISTRATION

[Notice (10-001)]

NASA Advisory Council; Science Committee; Planetary Science Subcommittee; Meeting

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATES: Wednesday, February 3, 2010, 11 a.m. to 1 p.m. Eastern Standard Time.

ADDRESSES: This meeting will take place telephonically and by WebEx. Any interested person may call the USA toll free conference call number (866) 844-9416, pass code PSS, to participate in this meeting by telephone. International callers may contact Ms. Marian Norris for country-specific conference call numbers. The WebEx link is https://nasa.webex.com/, meeting number 993131217, and password PS$M33ting.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—President's 2011 budget

—Mars Science Laboratory Update

It is imperative that the meeting be held on this date to accommodate the scheduling priorities of the key participants.

Dated: January 11, 2010.
P. Diane Rausch,
Advisory Committee Management Officer, National Aeronautics and Space Administration.

[FR Doc. 2010-779 Filed 1-15-10; 8:45 am]

BILLING CODE 7510-13-P